DEPARTMENT OF ENERGY

Federal Energy Regulatory Commission

[Project No. 9907-018]

Mr. Jerry McMillan and Ms. Christine Smith; Notice of Termination of License by Implied Surrender and Soliciting Comments, Protests, and Motions To Intervene

March 24, 2010.

Take notice that the following hydroelectric proceeding has been initiated by the Commission:

a. Type of Proceeding: Termination of license by implied surrender

b. Project No.: P-9907-018

c. Licensees: Mr. Jerry McMillan and Ms. Christine Smith

d. Name of Project: Sunshine Power Project

e. Location: The Sunshine Power Project is located on Lake Creek in Lemhi County, Idaho.

f. Issued Pursuant to: 18 CFR 6.4.

g. Licensee Contact: Mr. Jerry McMillan, 1157 North Hughes Street, Centerville, UT 84014, (801) 808-6997.

h. FERC Contact: Kelly Houff, (202) 502-6393, Kelly.Houff@ferc.gov.

i. Deadline for filing responsive documents: April 26, 2010.

Comments, protests, and interventions may be filed electronically via the Internet in lieu of paper; see 18 CFR 385.2001(a)(1)(iii) and the instructions on the Commission's Web site under the “e-Filing” link. The Commission strongly encourages electronic filings. Please include the project number (P-9907-018) on any documents or motions filed.

The Commission's Rules of Practice and Procedure require all intervenors filing documents with the Commission to serve a copy of that document on each person in the official service list for the project. Further, if an intervenor files comments or documents with the Commission relating to the merits of an issue that may affect the responsibilities of a particular resource agency, they must also serve a copy of the document on that resource agency.

j. Description of Existing Facilities: The project consists of the following facilities: (1) An existing earthfill 10-foot-high Lake Creek diversion dam; (2) an existing 15-inch-diameter, 2,300-foot-long buried PVC penstock; (3) a powerhouse containing one generating unit with a rated capacity of 110 kilowatts; (4) a 200-foot-long, 34.5-kV transmission line connected to Idaho Power Company lines; (5) a wooden fish ladder in a riprap-lined spillway; and (6) appurtenant facilities.

k. Description of Proceeding: Section 6.4 of the Commission's regulations (18 CFR 6.4) provides, among other things, that it is deemed to be the intent of a licensee to surrender a license, if the licensee abandons a project for a period of three years.

The Director of Hydropower Licensing issued a 50-year license to A. W. Brown, Co. for the Sunshine Power Project on March 20, 1987 (38 FERC ¶ 62,282). The project was transferred to Mr. Jerry McMillan and Ms. Christine Smith by order on February 23, 1996 (74 FERC ¶ 62,092). On January 26, 2006, Ms. Smith informed the Commission that in August of 2005, Mr. McMillan deeded Ms. Smith his interest in the Sunshine Project. In response, on April 6, 2006, Commission staff requested Ms. Smith file an application for transfer of license with the Secretary of the Commission. Ms. Smith failed to file a transfer application.

On August 13, 2007, Commission staff received a letter from Ms. Smith stating that she had sold the project to Ms. Claudia Burkhart. Commission staff wrote to Ms. Burkhart on August 21, 2008, stating that she needed to file a transfer of license application with the Commission's Secretary. Once again, no transfer application was filed. According to Commission records, the project has not operated since October 1, 2008, and the owner does not intend to bring the project back into operation. On October 19, 2009, Commission staff wrote Ms. Burkhart requesting she file either a detailed plan and schedule to resume generation at the project along with a transfer of license application, or a request to voluntarily surrender the license. No response was filed. On January 13, 2010, Commission staff sent a letter to Mr. McMillan and Ms. Smith, with a copy to Ms. Burkhart, requesting them to show cause why the Commission should not initiate a proceeding for terminating the license based upon implied surrender. No response was filed to the show cause letter.

l. This notice is available for review and reproduction at the Commission in the Public Reference Room, Room 2A, 888 First Street, NE., Washington, DC 20426. The filing may also be viewed on the Web at http://www.ferc.gov using the “eLibrary” link. Enter the docket number, here P-9907-018, in the docket number field to access the document. For assistance, call toll-free 1-866-208-3676 or e-mail FERCOnlineSupport@ferc.gov. For TTY, call (202) 502-8659. A copy is also available for review and reproduction at the address in item g above.

m. Individuals desiring to be included on the Commission's mailing list should so indicate by writing to the Secretary of the Commission.

n. Comments, Protests, or Motions to Intervene—Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

o. Filing and Service of Responsive Documents—All filings must (1) bear in all capital letters the title “PROTEST”, “MOTION TO INTERVENE,” “COMMENTS”, “RECOMMENDATIONS FOR TERMS AND CONDITIONS: (2) set forth in the heading the project number of the proceeding to which the filing responds; (3) furnish the name, address, and telephone number of the person protesting or intervening; and (4) otherwise comply with the requirements of 18 CFR 385.2001 through 385.2005. All comments, recommendations, or terms and conditions must set forth their evidentiary basis and otherwise comply with the requirements of 18 CFR 4.34(b). Any of the above mentioned documents must be filed by providing the original and eight copies to: The Secretary, Federal Energy Regulatory Commission, 888 First Street, NE., Washington, DC 20426. An additional copy must be sent to Director, Division of Hydropower Administration and Compliance, Office of Energy Projects, Federal Energy Regulatory Commission, at the above address.

p. Agency Comments—Federal, State, and local agencies are invited to file comments on the described proceeding. If any agency does not file comments within the time specified for filing comments, it will be presumed to have no comments.

Kimberly D. Bose,
Secretary.

[FR Doc. 2010-7149 Filed 3-30-10; 8:45 am]

BILLING CODE 6717-01-P